NUCLEAR REGULATORY COMMISSION

10 CFR Part 26

[Docket No. PRM-26-6; NRC-2010-0310]

Petition for Rulemaking Submitted by Mr. Erik Erb and 91 Cosigners

AGENCY: Nuclear Regulatory Commission.

ACTION: Petition for rulemaking; consideration in the rulemaking process.

SUMMARY: The U.S. Nuclear Regulatory Commission (NRC) has decided to consider the issues raised in a petition for rulemaking (PRM) submitted by Erik Erb, the petitioner, and 91 cosigners, in the planned “Quality Control/Quality Verification” (QC/QV) rulemaking (Docket ID: NRC-2009-0090). The petitioner requested that the NRC amend its regulations to decrease the minimum days off requirement for security officers working 12 hour shifts from an average of 3 days per week to 2.5 or 2 days per week.

ADDRESSES: Further NRC action on the issues raised by this petition will be accessible at the Federal rulemaking Web site, http://www.regulations.gov, by searching on the QC/QV rulemaking Docket ID: NRC-2009-0090.

You can access publicly available documents related to the petition using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available electronically at the NRC's Electronic Reading Room at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this petition can be found at http://www.regulations.gov by searching on the QC/QV rulemaking Docket ID: NRC-2009-0090. Address questions about NRC dockets to Carol Gallagher, telephone: 301-492-3668; e-mail: Carol.Gallagher@nrc.gov.

SUPPLEMENTARY INFORMATION: On November 23, 2010, (75 FR 71368), the NRC published a Notice of Receipt of a PRM filed on August 17, 2010, by Erik Erb and 91 cosigners, and request for public comment. The comment period closed on February 7, 2011. The NRC received five public comments.

The NRC determined that the issues raised in PRM-26-6 are appropriate for consideration, and will consider them in the planned QC/QV rulemaking. The NRC staff will address the comments filed in PRM-26-6 as part of the QC/QV rulemaking. This PRM docket is closed.

Dated at Rockville, Maryland, this 30th day of April 2011.
For the Nuclear Regulatory Commission.
Martin J. Virgilio,
Deputy Executive Director for Reactor and Preparedness Programs.

[FR Doc. 2011-11941 Filed 5-13-11; 8:45 am]

BILLING CODE 7590-01-P